DEPARTMENT OF DEFENSE

Department of the Army

32 CFR Part 571

[Docket No. USA-2007-0017]

RIN 0702-AA57

Recruiting and Enlistments

AGENCY: Department of the Army, DoD.

ACTION: Proposed rule; request for comments.

SUMMARY: The Department of the Army has revised its regulation that prescribes policies and procedures concerning recruiting and enlistment into the Regular Army and Reserve Components.

DATES: Consideration will be given to all comments received by July 9, 2007.

ADDRESSES: You may submit comments, identified by 32 CFR Part 571, Docket No. USA-2007-0017 and or RIN 0702-AA57, by any of the following methods:

• Federal eRulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Charles Tench, (703) 695-7520.

SUPPLEMENTARY INFORMATION:

A. Background

The Administrative Procedure Act, as amended by the Freedom of Information Act, requires publication of certain policies and procedures and other information concerning the Department of the Army in the Federal Register. The policies and procedures covered by this part fall into that category. The Army has changed the publications and policies, thus requiring the rules in the Federal Register to be updated.

B. Regulatory Flexibility Act

The Department of the Army has determined that the Regulatory Flexibility Act does not apply because the proposed rule does not have a significant economic impact on a substantial number of small entities within the meaning of the Regulatory Flexibility Act, 5 U.S.C. 601-612.

C. Unfunded Mandates Reform Act

The Department of the Army has determined that the Unfunded Mandates Reform Act does not apply because the proposed rule does not include a mandate that may result in estimated costs to State, local, or tribal governments in the aggregate, or the private sector, of $100 million or more.

D. National Environmental Policy Act

The Department of the Army has determined that the National Environmental Policy Act does not apply because the proposed rule does not have an adverse impact on the environment.

E. Paperwork Reduction Act

The Department of the Army has determined that the Paperwork Reduction Act does not apply because the proposed rule does not involve collection of information from the public.

F. Executive Order 12630 (Government Actions and Interference With Constitutionally Protected Property Rights)

The Department of the Army has determined that Executive Order 12630 does not apply because the proposed rule does not impair private property rights.

G. Executive Order 12866 (Regulatory Planning and Review)

The Department of the Army has determined that, according to the criteria defined in Executive Order 12866, this proposed rule is not a significant regulatory action. As such, the proposed rule is not subject to Office of Management and Budget review under section 6(a)(3) of the Executive Order.

H. Executive Order 13045 (Protection of Children From Environmental Health Risk and Safety Risks)

The Department of the Army has determined that, according to the criteria defined in Executive Order 13045, this proposed rule does not apply.

I. Executive Order 13132 (Federalism)

The Department of the Army has determined that, according to the criteria defined in Executive Order 13132, this proposed rule does not apply because it will not have a substantial effect on the States, on the relationship between the national government and the States, or on the distribution of power and responsibilities among the various levels of government.

Alphonsa D. Green,
Chief, Recruiting Policy Branch.

List of Subjects in 32 CFR Part 571

Military personnel.

For reasons stated in the preamble, the Department of the Army proposes to revise 32 CFR part 571 to read as follows:

PART 571—RECRUITING AND ENLISTMENTS

Subpart A—Recruiting and Enlistment Eligibility
Sec.
571.1 General.
571.2 Basic qualifications for enlistment.
571.3 Waiver enlistment criteria.
571.4 Periods of enlistment.
571.5 Enlistment options.
Subpart B—[Reserved]

Authority: 10 U.S.C. 504, 505, 509, 513, 520, 3262.

Subpart A—Recruiting and Enlistment Eligibility

§ 571.1 General.

(a) Purpose. This part gives the qualifications for men and women enlisting in the Regular Army (RA) or Reserve Components (RC). The procedures simplify and standardize the processing of recruited applicants. The applicant's ability to meet all requirements or exceptions will determine eligibility. This includes obtaining prescribed waivers.

(b) References—(1) Required Publications. (i) AR 601-210, Active and Reserve Components Enlistment Program. (Cited in §§ 571.2, 571.3, and 571.5).

(ii) AR 40-501, Standards of Medical Fitness. (Cited in §§ 571.2 and 571.3).

(iii) AR 600-9, The Army Weight Control Program. (Cited in §§ 571.2 and 571.3).

(2) Related Publications. (i) DOD Directive 1304.26, Qualifications for Enlistment, Appointment, and Induction.

(ii) Army Retention Program.

(c) Definitions. The following definitions apply to this part:

(1) Enlistment. Voluntary contract (DD Form 4) for military service that creates military status as an enlisted member of the Regular Army or a Reserve Component. This includes enlistment of both non-prior service and prior service personnel.

(2) Reenlistment. The second or subsequent voluntary enrollment in the Regular Army or a Reserve Component as an enlisted member.

(3) United States Army. The Regular Army, Army of the United States (AUS), Army National Guard of the United States (ARNGUS), and the United States Army Reserve (USAR).

(4) Regular Army (RA). The Regular Army is the component of the Army that consists of persons whose continuous service on active duty in both peace and war is contemplated by law and of retired members of the Regular Army.

(5) Prior Service (PS). For persons enlisting in the RA, those who have 180 days or more of active duty in any component; or, for persons enlisting in a Reserve Component, those who have 180 days of active duty in any component of the armed forces and who have been awarded an MOS; or former members of an armed forces academy who did not graduate and who served 180 days or more.

(6) Non-Prior Service (NPS). Those persons who have never served in any component of the armed forces or who have served less than 180 days of active duty as a member of any component of the armed forces. Reserve Component applicants must not have been awarded an MOS; or have enlisted illegally while underage and been separated for a void enlistment; or be a former member of a service academy who did not graduate and who served fewer than 180 days; or have completed ROTC and served only Active Duty for Training as an officer.

(7) Delayed Entry Program (DEP). A program in which Soldiers may enlist and are assigned to a United States Army Reserve (USAR) Control Group until they enlist in the Regular Army. The Commanding General, United States Army Recruiting Command (USAREC) is authorized by 10 U.S.C. 513 to organize and administer DEP.

§ 571.2 Basic qualifications for enlistment.

(a) Age requirements for non-prior service and prior service personnel are defined in AR 601-210.

(b) Applicants must meet citizenship requirements as defined in AR 601-210.

(c) Non-prior and prior service applicants must meet medical fitness standards prescribed in AR 40-501. Height and weight standards for non-prior service personnel AR 40-501 and in AR 600-9 for prior service personnel.

(d) Education standards, dependency criteria, and trainability requirements are prescribed in AR 601-210.

§ 571.3 Waiver enlistment criteria.

(a) Waiver criteria—(1) All persons who process applicants for enlistment in the Army use the utmost care to procure qualified personnel. Eligibility of personnel for enlistment will be based upon their ability to meet all requirements, including procurement of prescribed waivers.

(2) Applicants applying for moral or medical waivers will document their waiver requests, as prescribed by AR 601-210 or AR 40-501.

(3) The approval authorities for various types of waiver requests are set forth in AR 601-210. Commanders at levels below the approval authority may disapprove waivers for applicants who do not meet prescribed standards and who do not substantiate a meritorious case.

(4) Unless otherwise stated in AR 601-210, waivers are valid for 6 months.

(b) Nonwaiver medical, moral, and administrative disqualifications are defined in AR 601-210.

§ 571.4 Periods of enlistment.

Enlistments are authorized for periods of 2, 3, 4, 5, 6, 7, or 8 years.

§ 571.5 Enlistment options.

Personnel who enlist in the Regular Army for 2 or more years may select certain initial assignments or classifications, provided they meet the criteria set forth in AR 601-210 and valid Army requirements exist for the assignments and skills.

Subpart B—[Reserved]

[FR Doc. E7-8793 Filed 5-9-07; 8:45 am]

BILLING CODE 3710-08-P